DEPARTMENT OF TRANSPORTATION

Federal Aviation Administration

Announcement of Safety Alert for Operators (SAFO) Web Site

AGENCY: Federal Aviation Administration, DOT.

ACTION: Notice of availability of SAFOs.

SUMMARY: In order to communicate safety information to the commercial aviation community more effectively, the FAA Flight Standards Service has issued FAA Order 8000.87, Safety Alert for Operators (SAFO). The public and operators can access this order at this Web site: http://www.faa.gov/other_visit/aviation_industry/airline_operators/airline_safety/safo.

FOR FURTHER INFORMATION CONTACT: Hop Potter, Air Transportation Division, AFS-200, 800 Independence Avenue, SW., Washington, DC 20591, and Telephone (202) 267-8166.

SUPPLEMENTARY INFORMATION:

Safety Alerts for Operators (SAFO)

FAA Order 8000.87, Safety Alerts for Operators (SAFO), established SAFOs on August 29, 2005. SAFOs permit the FAA to reclaim valuable guidance found in discontinued Air Carrier Operations Bulletins (ACOB). Much of that information is still valid. A SAFO may also contain new and important safety information alone or a combination of safety information and recommended (non-regulatory) actions. The respective operators identified in each SAFO may take action on a voluntary basis.

A SAFO exploits the power and reach of the Internet. A SAFO may be posted promptly, when its content may be most valuable, and that content is readily available for use by operators. We encourage operators to implement actions recommended in a SAFO.

Availability

We post SAFOs on an FAA Web site available to the public and maintained by the Flight Standards Service. The FAA does not distribute hard copies of individual SAFOs. Any person who wants a hard copy may download and print a SAFO from the Web site. We arrange SAFOs by category and by date, with the newest SAFO shown first in each category, the oldest shown last. Operators should check this site periodically for new safety information.

Issued in Washington, DC, on April 13, 2006.
John M. Allen,
Deputy Director, Flight Standards Service.

[FR Doc. E6-5911 Filed 4-19-06; 8:45 am]

BILLING CODE 4910-13-P